DEPARTMENT OF COMMERCE

Foreign-Trade Zones Board

[B-56-2021]

Foreign-Trade Zone (FTZ) 38—Spartanburg County, South Carolina; Authorization of Production Activity; BMW Manufacturing Company, LLC (Passenger Motor Vehicles); Spartanburg, South Carolina

On July 28, 2021, BMW Manufacturing Company, LLC submitted a notification of proposed production activity to the FTZ Board for its facility within Subzone 38A, in Spartanburg, South Carolina.

The notification was processed in accordance with the regulations of the FTZ Board (15 CFR part 400), including notice in the Federal Register inviting public comment (86 FR 43520, August 9, 2021). On November 26, 2021, the applicant was notified of the FTZ Board's decision that no further review of the activity is warranted at this time. The production activity described in the notification was authorized, subject to the FTZ Act and the FTZ Board's regulations, including Section 400.14.

Dated: November 26, 2021.
Elizabeth Whiteman,
Acting Executive Secretary.

[FR Doc. 2021-26151 Filed 12-1-21; 8:45 am]

BILLING CODE 3510-DS-P